DEPARTMENT OF INTERIOR

Bureau of Land Management

[LLCO956000 L14200000.BJ0000]

Notice of Filing of Plats

AGENCY: Bureau of Land Management, Interior.

ACTION: Notice of Filing of Plats; Colorado.

SUMMARY: The Bureau of Land Management (BLM) Colorado State Office is publishing this notice to inform the public of the intent to file the land survey plats listed below, and to afford all affected parties a proper period of time to protest this action, prior to the plat filing.

DATES: Unless there are protests of this action, the filing of the plats described in this notice will happen on June 22, 2012.

ADDRESSES: BLM Colorado State Office, Cadastral Survey, 2850 Youngfield Street, Lakewood, Colorado 80215-7093.

FOR FURTHER INFORMATION CONTACT: Randy Bloom, Chief Cadastral Surveyor for Colorado, (303) 239-3856.

SUPPLEMENTARY INFORMATION: The supplemental plat of Section 12, in 4 sheets, in Township 3 South, Range 73 West, Sixth Principal Meridian, Colorado, was accepted on April 6, 2012.

The plat and field notes of the dependent resurvey and survey, in 3 sheets, in Township 25 South, Range 73 West, Sixth Principal Meridian, Colorado, were accepted on April 6, 2012.

The plat and field notes of the dependent resurvey and survey, in 4 sheets, in Township 8 South, Range 78 West, Sixth Principal Meridian, Colorado, were accepted on April 13, 2012.

The plat and field notes of the dependent resurvey and survey in Township 15 South, Range 97 West, Sixth Principal Meridian, Colorado, were accepted on April 30, 2012.

The plat and field notes of the dependent resurvey and survey in Township 48 North, Range 68 West, New Mexico Principal Meridian, Colorado, were accepted on May 3, 2012.

The supplemental plat of Section 18, in Township 1 North, Range 71 West, Sixth Principal Meridian, Colorado, was accepted on May 9, 2012.

Randy Bloom,
Chief Cadastral Surveyor for Colorado.

[FR Doc. 2012-12454 Filed 5-22-12; 8:45 am]

BILLING CODE 4310-JB-P